DEPARTMENT OF DEFENSE

Department of the Army

Army Science Board Plenary Meeting

AGENCY: Department of the Army, DoD.

ACTION: Notice of open meeting.

SUMMARY: Pursuant to the Federal Advisory Committee Act of 1972 (5 U.S.C., Appendix, as amended), the Government in the Sunshine Act of 1976 (5 U.S.C. 552b, as amended) and 41 Code of the Federal Regulations (CFR 102-3.140 through 160), the Department of the Army announces the following committee meeting:

Name of Committee: Army Science Board (ASB).

Date(s) of Meeting: October 30-31 and November 1, 2007.

Time(s) of Meeting:

0800-1700, October 30, 2007.

0800-1700, October 31, 2007.

0800-1200, November 1, 2007.

Place of Meeting: Marriott Seattle Airport, 3201 South 17th Street, Seattle, WA 98188.

Due to scheduling difficulties the Army Science Board was unable to finalize its agenda in time to publish notice of its meeting in the Federal Register for the 15 calendar days required by 41 CFR 102-3.150(a). Accordingly, the Committee Management Officer for the Department of Defense, pursuant to 41 CFR 102-3.150(b), waives the 15-calendar day notification requirement.

FOR FURTHER INFORMATION CONTACT: For information please contact Ms. Sharon Harvey at Sharon.harvey1@us.army.mil or (703) 604-7466 or Wayne Joyner at wayne.joyner@saalt.army.mil or (703) 604-7490.

SUPPLEMENTARY INFORMATION:

Proposed Agenda

Tuesday, October 30

0700-0800—Registration

0800-0815—Welcome & Administrative Remarks, Dr. Frank Akers

0815-0900—Commission on Army Acquisition & Program Management in Expeditionary Operations, ASB Sub-Committee Panel.

ASB Business Meeting

—Introduction of New Members

—Introduction of ASB Study Managers

—State of ASB, FY08 ASB Challenges

—Annual Ethics Briefing, SJA Ft. Lewis

—Briefing on Defense Travel Service, COL Ierardi

1200-1300—Lunch on your own

1415-1600—Tour of Microsoft Technology Division

Wednesday, October 31

0800-0815—Welcome remarks from LTG Charles Jacoby, Jr. Commanding General I Corp and Fort Lewis

0815-0845—I Corp and Fort Lewis Brief

0845-0950—I Corp and Fort Lewis initiatives for support to the Global War on Terrorism

—Warrior Training Leader Development Center—Stryker

—Senior Leader Wellness Enhancement Program

—Soldier Wellness Assessment Pilot Program

—Family Assessment and Mental Evaluation

0950-1005—Break

1005-1045—I Corp and Fort Lewis initiatives for support to the Global War on Terrorism

—Raindrops and Rainbows

—Jensen Family Health and Fitness Center

—Family Center of Excellence (video)

1045-1145—Overview of 3rd Brigade, 2nd Infantry Division Combat Operations and Lessons Learned

1200-1300—Lunch

1300-1615—Engagement Skills Trainer 2000 and Battle Command Training Center

Thursday, November 1

0730-1100—FY08 Studies Discussion, Dr. Akers & Study Chairs

1100-1130—Re-Group and Farewell, Dr. Akers

1200/Noon—Adjourn/Attendees Depart for Home

Brenda S. Bowen,
Army Federal Register Liaison Officer.

[FR Doc. 07-5143 Filed 10-16-07; 8:45 am]

BILLING CODE 3710-08-M